NATIONAL SCIENCE FOUNDATION

Sunshine Act Meetings; National Science Board

The National Science Board, pursuant to NSF regulations (45 CFR part 614), the National Science Foundation Act, as amended (42 U.S.C. 1862n-5), and the Government in the Sunshine Act (5 U.S.C. 552b), hereby gives notice of a CHANGE in the scheduling of a meeting of the Committee on Education and Human Resources (CEH) for the transaction of National Science Board business, as shown below. The original notice appeared in the Federal Register on Friday, August 7, 2015 at 80 FR 47528.

ORIGINAL DATE AND TIME: August 12, 2015 from 1:30 p.m. to 3:00 p.m. EDT.

NEW TIME: August 12, 2015 from 1:13 p.m. to 3:00 p.m. EDT

All other applicable information remains the same.

WEBCAST INFORMATION: Public meetings and public portions of meetings will be webcast. To view the meetings, go to www.tvworldwide.com/events/nsf/150812 and follow the instructions.

Kyscha Slater-Williams,
Program Specialist, National Science Board.

[FR Doc. 2015-20236 Filed 8-12-15; 4:30 pm]

BILLING CODE 7555-01-P